OVERSEAS PRIVATE INVESTMENT CORPORATION

Submission for OMB Review; Comments Request

AGENCY: Overseas Private Investment Corporation (OPIC).

ACTION: Notice and request for comments.

SUMMARY: Under the provisions of the Paperwork Reduction Act (44 U.S.C. Chapter 35), agencies are required to publish a Notice in the Federal Register notifying the public that the agency has prepared an information collection for OMB review and approval and has requested public review and comment on the submission. OPIC received no comments in response to the sixty (60) day notice published in Federal Register volume 79, number 167, page 51377 on August 28, 2014. The purpose of this notice is to allow an additional thirty (30) days for public comments to be submitted. Comments are being solicited on the need for the information; the accuracy of the Agency's burden estimate; the quality, practical utility, and clarity of the information to be collected; and ways to minimize reporting the burden, including automated collected techniques and uses of other forms of technology.

DATES: Comments must be received within thirty (30) calendar-days of publication of this Notice. OPIC plans to implement this form in Dec 2013/Jan 2014.

ADDRESSES: Copies of the subject form may be obtained from the Agency Submitting Officer.

FOR FURTHER INFORMATION CONTACT: OPIC Agency Submitting Officer: Essie Bryant, Records Manager, Overseas Private Investment Corporation, 1100 New York Avenue NW., Washington, DC 20527; (202) 336-8563.

Summary Form Under Review

Type of Request: New form.

Title: Aligned Capital Investee Opt-In.

Form Number: OPIC-255.

Frequency of Use: Once per investor per project.

Type of Respondents: Business or other institution.

Standard Industrial Classification Codes: All.

Standard Industrial Classification Codes: All.

Description of Affected Public: U.S. companies or citizens investing overseas.

Reporting Hours: 200 (2 hours per form).

Number of Responses: 100 per year.

Federal Cost: $15,276.

Authority for Information Collection: Sections 231(k)-(m) of the Foreign Assistance Act of 1961, as amended.

Abstract (Needs and Uses): The U.S. Effects Screening Questionnaire will be used to identify potential negative impacts on the U.S. economy and employment which could result from the investment. This form is submitted prior to a formal OPIC application or as required by OPIC-supported financial intermediaries. Title VI of the Foreign Assistance Act of 1961, as amended, (codified at 22 U.S.C. § 2191 et seq.) prohibits OPIC from supporting investments that are likely to cause the loss of U.S. jobs, or that have performance requirements that may reduce substantially the positive trade benefits likely to accrue to the U.S. from the investment.

Dated: November 3, 2014.
Nichole Cadiente,
Administrative Counsel, Department of Legal Affairs.

[FR Doc. 2014-26555 Filed 11-10-14; 8:45 am]

BILLING CODE M